DEPARTMENT OF ENERGY

Federal Energy Regulatory Commission

[Project No. 13498-000]

SARA, Inc.; Notice of Preliminary Permit Application Accepted for Filing and Soliciting Comments, Motions To Intervene, and Competing Applications

June 17, 2009.

On June 2, 2009, SARA, Inc. filed an application for a preliminary permit, pursuant to section 4(f) of the Federal Power Act, proposing to study the feasibility of the SWAVE Catalina Green Wave Energy Project, located in the Pacific Ocean approximately 0.75 mile off the west coast of Santa Catalina Island, on submerged lands of the State of California. The sole purpose of a preliminary permit, if issued, is to grant the permit holder priority to file a license application during the permit term. A preliminary permit does not authorize the permit holder to perform any land disturbing activities or otherwise enter upon lands or waters owned by others without the owners' express permission.

The project would consist of an array of 10-40 SWAVE buoys, mounted in a staggered array in about 225 to 300 feet of water. The project zone is a rectangle about 0.5 nautical mile wide by 1.75 nautical miles long. The exact layout of the buoy array would be determined once a oceanographic site survey has been completed. The units would be designed with a peak capacity of 150 kilowatts each, for a total peak capacity of the 1.5-6 megawatts. The buoys would be secured in place with a mooring system. The buoys themselves would be easy to disconnect from their mooring to allow easy removal in the case they are found to cause environmental damage. The buoy array would be connected to an underwater junction box and that conditions the power and transmits it to shore in the vicinity of the city of Avalon through a high-voltage power transmission cable.

Applicant Contact: Dr. Parvis Parhami, CEO, SARA, Inc., 6300 Gateway Drive, Cypress, CA 90630; phone: (714) 224-4410.

FERC Contact: John M. Mudre, (202) 502-8902.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project, including a copy of the application, can be viewed or printed on the “eLibrary” link of Commission's Web site at http://www.ferc.gov/docs-filing/elibrary.asp. Enter the docket number (P-13498) in the docket number field to access the document. For assistance, call toll-free 1-866-208-3372.

Kimberly D. Bose,
Secretary.

[FR Doc. E9-14793 Filed 6-23-09; 8:45 am]

BILLING CODE 6717-01-P